FEDERAL MINE SAFETY AND HEALTH REVIEW COMMISSION

Sunshine Act Meeting

January 10, 2001.

TIME AND DATE: 2:00 p.m., Wednesday, January 10, 2001.

PLACE: Room 6005, 6th Floor, 1730 K Street, NW., Washington, DC.

STATUS: Closed [Pursuant to 5 U.S.C. 552b(c)(10)].

MATTERS TO BE CONSIDERED: It was determined by a unanimous consent vote of the Commission that the Commission consider and act upon the following in closed session:

1. Disciplinary Matter, Docket No. D 2000-1.

2. Disciplinary Matter, Docket No. D 2001-1.

No earlier announcement of the meeting was possible.

Contact Person for Further Information: Jean Ellen (202) 653-5629/(202) 708-9300 for TDD Relay/1-800-877-8339 for toll free.

Jean H. Ellen,
Chief Docket Clerk.

[FR Doc. 01-1482 Filed 1-12-01; 12:40 pm]

BILLING CODE 6735-01-M